DEPARTMENT OF THE INTERIOR

Bureau of Ocean Energy Management, Regulation and Enforcement

Record of Decision (ROD) for Authorizing the Use of Outer Continental Shelf (OCS) Sand Resources in National Aeronautics and Space Administration's Wallops Flight Facility Shoreline Restoration and Infrastructure Protection Program

AGENCY: Bureau of Ocean Energy Management, Regulation and Enforcement (BOEMRE), Interior.

ACTION: Notice of Availability (NOA) of the Record of Decision.

SUMMARY: BOEMRE has issued a ROD to authorize the use of OCS sand resources in National Aeronautics and Space Administration's (NASA's) Wallops Flight Facility (WFF) Shoreline Restoration and Infrastructure Protection Program (SRIPP). The ROD documents the Bureau's decision in selecting the Preferred Alternative described in NASA's Final Programmatic Environmental Impact Statement (PEIS) for the WFF SRIPP (October 2010). BOEMRE will enter into a negotiated agreement with NASA for the purpose of making sand available from a shoal on the OCS for placement on the beach in support of the WFF SRIPP's initial beach fill, following the mandated 30-day wait period from the date of the issuance of the ROD. BOEMRE is announcing the availability of this ROD, in accordance with the regulations implementing the National Environmental Policy Act (NEPA). The Associate Director for Offshore Energy and Minerals Management in BOEMRE signed the ROD on March 2, 2011.

Authority: This NOA of the ROD is published pursuant to the regulations (40 CFR 1506.6) implementing the provisions of the NEPA of 1969 (42 U.S.C. 4321 et seq.).

SUPPLEMENTARY INFORMATION:

Description of NASA's WFF SRIPP and BOEMRE's Connected Action

NASA has proposed the SRIPP to reduce the potential for damage to, or loss of, NASA, U.S. Navy, and Commonwealth of Virginia assets on Wallops Island from storm-induced wave impacts and coastal erosion. Under the SRIPP, NASA will extend an existing seawall and implement an initial beach fill in late 2011 with re-nourishment projects about every 5 years. The goal of SRIPP is to provide long-term protection of essential assets, including facilities and infrastructure on the WFF (such as rocket launch pads, runways, and launch control centers) valued at over $1 billion. The purpose of BOEMRE's connected action is to respond to a request for use of OCS sand in the initial beach fill, under the authority granted to the Department of the Interior by the Outer Continental Shelf Lands Act (OCSLA) (43 U.S.C. 1337(k)(2)). Under OCSLA, BOEMRE can convey, on a noncompetitive basis, the rights to use OCS sand, gravel, or shell resources for use in a program for shoreline protection or beach restoration undertaken by a Federal, State, or local government agency (43 U.S.C. 1337(k)(2)). The Proposed Action is necessary because BOEMRE has a directive to authorize the use of OCS sand resources for the purpose of shore protection and beach restoration. The Secretary of the Interior delegated the authority granted in the OCSLA to BOEMRE.

Record of Decision

BOEMRE's decision is supported by the comprehensive analysis presented in NASA's Final PEIS, which was published in October 2010. NASA published their ROD in December 2010. BOEMRE and the U.S. Army Corps of Engineers (USACE) served as cooperating agencies in preparing the PEIS. Due to the specialized expertise of the USACE, USACE is acting as a technical partner for NASA.

The PEIS assessed the physical, biological, and social/human impacts of the proposed project and considered a wide range of structural and non-structural alternatives, including a no-action alternative, as well as impacts from proposed mitigation. The PEIS was developed cooperatively to fulfill all three Federal agencies' obligations under NEPA and the environmental impacts of their connected actions were encompassed in the analysis. As NASA is the lead agency and BOEMRE is a cooperating agency for the proposed action, BOEMRE independently reviewed and adopted the PEIS prepared by NASA (43 CFR 46.120).

The ROD summarizes the alternatives considered by BOEMRE, the decision BOEMRE made, the basis for the decision, the environmentally preferred alternative, required mitigation measures, and the process NASA, as the lead Federal agency, and the USACE and BOEMRE as cooperating agencies, undertook to involve the public and other Federal and State agencies. The decision identifies and adopts mitigation measures and monitoring requirements enforceable by BOEMRE and deemed practicable to avoid or minimize the environmental harm that could result from the project. In NASA's ROD, NASA and USACE committed to implement the mitigation measures and monitoring requirements also identified in BOEMRE's ROD. This action is taken with the understanding that any proposed use of OCS sand in future beach re-nourishment activities by NASA will require a new negotiated agreement and an updated environmental analysis.

Availability of the ROD

To obtain a printed copy of the ROD, you may contact BOEMRE, Environmental Division (MS 4042), 381 Elden Street, Herndon, Virginia 20170. An electronic copy of the ROD is available at BOEMRE's Web site at: [http://www.boemre.gov/sandandgravel/MarineMineralProjects.htm].

FOR FURTHER INFORMATION CONTACT: James F. Bennett, Bureau of Ocean Energy Management, Regulation and Enforcement, Environmental Division, 381 Elden Street, MS 4042, Herndon, Virginia 20170, (703) 787-1660, jfbennett@boemre.gov.

Dated: March 10, 2011.
Robert P. LaBelle,
Acting Associate Director for Offshore, Energy and Minerals Management.

[FR Doc. 2011-8151 Filed 4-5-11; 8:45 am]

BILLING CODE 4310-MR-P